ENVIRONMENTAL PROTECTION AGENCY

[EPA-HQ-OPPT-2022-0924; FRL-10439-01-OCSPP]

Stakeholder Engagement Opportunities on Inflation Reduction Act Programs To Reduce Embodied Greenhouse Gas Emissions Associated With Construction Materials and Products

AGENCY: Environmental Protection Agency (EPA).

ACTION: Notice.

SUMMARY: The Environmental Protection Agency (EPA) is announcing the first opportunities for public input on new programs focused on lower carbon construction materials made possible by a $350 million investment from the Inflation Reduction Act (IRA). The Agency will hold three public webinars and is accepting written feedback on establishing the new grant and technical assistance programs and a carbon labeling program for construction materials with substantially lower levels of embodied carbon.

DATES:

Webinars: March 2, 2023, 2:00-3:30 p.m. EST. Topic: Reducing Embodied Greenhouse Gas Emissions: Construction Materials Prioritization and Environmental Data Improvement. You must register online at https://esindustrial.webex.com/weblink/register/r3e2a14dee9e470bbe09e0c27857121b0.

March 22, 2023, 2:00-3:30 p.m. EST. Topic: Reducing Embodied Greenhouse Gas Emissions: Grants and Technical Assistance for Environmental Product Declarations. You must register online at https://esindustrial.webex.com/weblink/register/r7672c2c41979f2125343935a12d2ccb6.

April 19, 2023, 2:00-3:30 p.m. EST. Topic: Reducing Embodied Greenhouse Gas Emissions: Carbon Labeling. You must register online at https://esindustrial.webex.com/weblink/register/rfdbb89ff0328b17c371bf47c74d7bae7.

Special accommodations: To allow EPA time to process your request for special accommodations, please submit the request on or before February 14, 2023. For information on access or services for individuals with disabilities, and to request accommodation for a disability, please contact Alison Kinn Bennett, listed under FOR FURTHER INFORMATION CONTACT.

Written comments: Comments must be received on or before May 1, 2023.

ADDRESSES:

Webinars: You must register online using the links listed under DATES in order to receive the webcast meeting link and audio teleconference information for the particular webinar.

Written Comments: Submit your comments, identified by docket identification (ID) number EPA-HQ-OPPT-2022-0924, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Alison Kinn Bennett, Senior Advisor, Environmentally Preferable Purchasing Program (7409M), Office of Chemical Safety and Pollution Prevention, Environmental Protection Agency, 1200 Pennsylvania Ave. NW, Washington, DC 20460-0001; telephone number: (202) 564-8859; email address: kinn.alison@epa.gov.

SUPPLEMENTARY INFORMATION:

I. Executive Summary

A. Does this action apply to me?

This is directed to the public in general. This notice may be of specific interest to persons who represent industry, program operators, institutional purchasers, researchers, academia, state, tribal, and local governments including U.S. territories and the District of Columbia, other federal agencies, community groups, non-governmental organizations, the public, and international organizations.

B. What action is the Agency taking?

EPA is announcing stakeholder engagement opportunities through upcoming webinars and a Request for Information (RFI) to help shape implementation of IRA programs under the IRA sections 60112 and 60116.

C. What should I consider as I prepare my responses for EPA?

1. Submitting CBI. Do not submit CBI information to EPA through regulations.gov or email. Clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Multimedia submissions. Multimedia submissions (audio, video, etc.) must be accompanied by a written comment. The written comment is considered the official comment and should include discussion of all points you wish to make. The EPA will generally not consider comments or comment contents located outside of the primary submission (i.e., on the web, cloud, or other file sharing system).

3. Tips for preparing your comments. When preparing and submitting your comments, see the commenting tips at https://www.epa.gov/dockets/comments.html. Please note that once submitted, comments cannot be edited or removed from the docket. The EPA may publish any comment received to its public docket.

4. Request for information and comments. EPA has prepared a Request for Information (RFI) document that is available in the docket and is intended to facilitate your consideration and preparation of written comments. Only comments submitted directly through the Federal eRulemaking Portal at https://www.regulations.gov will be accepted. Electronic submission ensures timely receipt by the EPA and enables the EPA to make comments immediately available to the public. Comments posted in the https://www.regulations.gov website can be viewed by other commenters and interested members of the public.

Information provided in response to this RFI will inform the prioritization of work and key design elements of these new programs. EPA's questions cover the following areas:

• What construction materials/products should EPA prioritize in implementation of these programs?

• What data accessibility and improvement approaches should EPA consider?

• What standardization, measurement, verification, and reporting approaches for use in procurement decision-making should EPA consider?

• What factors should EPA consider for the Environmental Product Declaration Assistance program?

• What should be considered for setting thresholds for “substantially lower levels” of embodied greenhouse gas emission for qualifying materials/products under a labeling program?

• What would be the key elements of an effective carbon labeling program?

If you elect to comment, you do not need to address every question and may focus on those where you have relevant expertise or experience. Please identify the question(s) you are responding to by question number in the RFI when submitting your comments.

II. Background

In August 2022, Congress passed and President Biden signed the IRA into law, creating the largest investment to combat the climate crisis in United States history. The IRA will bolster U.S. energy security, help families save money on energy costs and prescription drugs, reduce the deficit and create good-paying jobs. EPA received $41.5 billion in appropriations to develop and support 24 new and existing programs that monitor and reduce greenhouse gas emissions and air pollution, protect health and advance environmental justice.

These new programs funded by the IRA Sections 60112 and 60116 will provide grants, technical assistance, and tools, including a carbon label, to advance the President's bold agenda to combat the climate crisis, protect public health and advance environmental justice. The new programs will help manufacturers, institutional buyers, real estate developers, builders and others measure, report and substantially lower the levels of embodied carbon and other greenhouse gas emissions associated with the production, use and disposal of construction materials and products including steel, concrete, asphalt and glass. Additionally, this work will support President Biden's Buy Clean Task Force which is developing recommendations for Federal procurement and federally funded projects that would expand consideration of greenhouse gas emissions and other pollutants associated with construction materials.

Authority: 42 U.S.C. 1310.

Dated: January 18, 2023.
Michal Freedhoff,
Assistant Administrator, Office of Chemical Safety and Pollution Prevention.

[FR Doc. 2023-01501 Filed 1-25-23; 8:45 am]

BILLING CODE 6560-50-P